INTERNATIONAL TRADE COMMISSION

[USITC SE-11-034]

Sunshine Act Meeting Notice

AGENCY HOLDING THE MEETING: United States International Trade Commission.

TIME AND DATE: December 5, 2011 at 2 p.m.

PLACE: Room 100, 500 E Street SW., Washington, DC 20436. Telephone: (202) 205-2000.

STATUS: Open to the public.

Matters To Be Considered

1. Agendas for future meetings: none.

2. Minutes.

3. Ratification List.

4. Vote in Inv. Nos. 701-TA-388-391 and 731-TA-817-821 (Second Review)(Cut-to-Length Carbon-Quality Steel Plate from India, Indonesia, Italy, Japan, and Korea). The Commission is currently scheduled to transmit its determinations and Commissioners' opinions to the Secretary of Commerce on or before December 16, 2011.

5. Outstanding action jackets: none.

In accordance with Commission policy, subject matter listed above, not disposed of at the scheduled meeting, may be carried over to the agenda of the following meeting.

By order of the Commission.
Issued: November 21, 2011.
William R. Bishop,
Hearings and Meetings Coordinator.

[FR Doc. 2011-30433 Filed 11-22-11; 11:15 am]

BILLING CODE 7020-02-P